FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 19, 2018.

A. Federal Reserve Bank of Minneapolis (Mark A. Rauzi, Vice President), 90 Hennepin Avenue, Minneapolis, Minnesota 55480-0291:

1. Greta Christianson, Bloomington, Minnesota and Ingrid Langseth, Worthington, Minnesota, individually, and as members of the Christianson/Langseth family shareholder group; to retain voting shares of FSB Holding Company, Inc., Trimont, Minnesota (FSB), and thereby indirectly retain shares of Farmers State Bank of Trimont, Trimont, Minnesota (Trimont Bank).

Additionally, Beverly Anthony, Trimont, Minnesota, as a member of the Anthony family shareholder control group; to retain shares of FSB, and thereby indirectly retain shares of Trimont Bank.

Board of Governors of the Federal Reserve System, June 19, 2018.
Ann Misback,
Secretary of the Board.

[FR Doc. 2018-13473 Filed 6-21-18; 8:45 am]

BILLING CODE P